DEPARTMENT OF TRANSPORTATION

Federal Aviation Administration

14 CFR Part 39

[Docket No. FAA-2006-26049; Directorate Identifier 2006-NM-177-AD]

RIN 2120-AA64

Airworthiness Directives; McDonnell Douglas Model DC-10-10, DC-10-10F, DC-10-15, DC-10-30, and DC-10-30F (KC-10A and KDC-10) Airplanes; Model DC-10-40 and DC-10-40F Airplanes Equipped With Pratt & Whitney JT9-20 or JT9-20J Engines; and Model MD-10-10F and MD-10-30F Airplanes

AGENCY: Federal Aviation Administration (FAA), Department of Transportation (DOT).

ACTION: Notice of proposed rulemaking (NPRM).

SUMMARY: The FAA proposes to adopt a new airworthiness directive (AD) for the McDonnell Douglas airplanes previously described. This proposed AD would require replacing the control modules of the fire detection systems of the propulsion engines with new, improved control modules. This proposed AD results from a report of broken or severed wiring between engine fire detectors and the fire detection system control module, which caused the fire detection system to become non-functional without flightcrew awareness. We are proposing this AD to prevent unannunciated fire in a propulsion engine, which could cause injury to flightcrew and passengers or loss of the airplane.

DATES: We must receive comments on this proposed AD by November 27, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Meggitt Safety Systems Inc., 1915 Voyager Avenue, Simi Valley, California 93063, for the service information identified in this proposed AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to submit any relevant written data, views, or arguments regarding this proposed AD. Send your comments to an address listed in the ADDRESSES section. Include the docket number “FAA-2006-26049; Directorate Identifier 2006-NM-177-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that an unsafe condition may exist on all McDonnell Douglas Model DC-10-10, DC-10-10F, DC-10-15, DC-10-30, and DC-10-30F (KC-10A and KDC-10) airplanes; Model DC-10-40 and DC-10-40F airplanes equipped with Pratt & Whitney JT9-20 or JT9-20J engines; and all Model MD-10-10F and MD-10-30F airplanes. The report stated that a Model DC-10-10F airplane experienced an undetected, uncontained engine failure upon takeoff, which severed the wiring between the engine fire detectors and the fire detection system control module. As the fire detection system control module was not designed to register wiring or component failures when not in test mode, the fire detection system became non-functional without flightcrew awareness. Upon landing, the flightcrew employed the thrust reversers for all engines, which caused an unannunciated fire in the failed engine that required ground support to extinguish. A fire detection system not known to be malfunctioning could, if not repaired, result in unannunciated fire in a propulsion engine, which could cause injury to flightcrew and passengers or loss of the airplane.

Relevant Service Information

We have reviewed Meggitt Safety Systems Service Bulletin 26-34, Revision 2, dated August 15, 2006. The service bulletin describes procedures for replacing the fire detection system control modules of the main propulsion engines and auxiliary power unit (APU) with new, improved control modules. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between Proposed AD and Service Bulletin.”

Differences Between Proposed AD and Service Bulletin

The service bulletin describes procedures for replacing the control modules of the fire detection systems of the propulsion engines and of the APU. However, we have determined that mandating replacement of the control module of the fire detection system of the APU is not critical to fleet safety. Therefore, this proposed AD would not require this action.

The service bulletin does not specify a compliance time for accomplishing the described actions. However, we have determined that a compliance time of 60 months after the effective date of this proposed AD would provide an appropriate amount of time to accomplish the actions while maintaining an adequate level of fleet safety.

We have coordinated these differences with Boeing.

Costs of Compliance

There are about 305 airplanes of the affected design in the worldwide fleet. This proposed AD would affect about 233 airplanes of U.S. registry. The proposed actions would take about 6 work hours per airplane, at an average labor rate of $80 per work hour. Required parts would cost about $9,900 per airplane. Based on these figures, the estimated cost of the proposed AD for U.S. operators is $2,418,540, or $10,380 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2006-26049; Directorate Identifier 2006-NM-177-AD.

Comments Due Date

(a) The FAA must receive comments on this AD action by November 27, 2006.

Affected ADs

(b) None.

Applicability

(c) This AD applies to McDonnell Douglas airplanes, certificated in any category; as specified in paragraphs (c)(1), (c)(2), and (c)(3) of this AD.

(1) All Model DC-10-10, DC-10-10F, DC-10-15, DC-10-30, and DC-10-30F (KC-10A and KDC-10) airplanes;

(2) Model DC-10-40 and DC-10-40F airplanes equipped with Pratt & Whitney JT9-20 or JT9-20J engines; and

(3) All Model MD-10-10F and MD-10-30F airplanes.

Unsafe Condition

(d) This AD results from a report of broken or severed wiring between engine fire detectors and the fire detection system control module, which caused the fire detection system to become non-functional without flightcrew awareness. We are issuing this AD to prevent unannunciated fire in a propulsion engine, which could cause injury to flightcrew and passengers or loss of the airplane.

Compliance

(e) You are responsible for having the actions required by this AD performed within the compliance times specified, unless the actions have already been done.

Control Module Replacement

(f) Within 60 months after the effective date of this AD, replace the control modules of the fire detection systems of the propulsion engines with new, improved control modules, in accordance with paragraph 2., “Main Engine Control Module Replacement Instructions,” of Meggitt Safety Systems Service Bulletin 26-34, Revision 2, dated August 15, 2006.

Alternative Methods of Compliance (AMOCs)

(g)(1) The Manager, Los Angeles Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on October 3, 2006.
Kalene C. Yanamura,
Acting Manager, Transport Airplane Directorate, Aircraft Certification Service.

[FR Doc. E6-17003 Filed 10-12-06; 8:45 am]

BILLING CODE 4910-13-P